ENVIRONMENTAL PROTECTION AGENCY

[OPPT-2005-0029; FRL-7714-2]

Strategic Approach to International Chemicals Management (SAICM), Meeting of Western Europe and Other Governments (WEOG); Notice of Public Meeting

AGENCY: Environmental Protection Agency (EPA).

ACTION: Notice.

SUMMARY: This notice is to announce that EPA and the State Department will be hosting stakeholder meetings to inform U.S. Government viewpoints for an upcoming Western Europe and Other Governments (WEOG) meeting on the Strategic Approach to International Chemicals Management (SAICM) and a number of inter-sessional working documents (see the website listed in Unit II.), and for general and background information on SAICM, see the website listed in Unit II. The United States is seeking comments to guide the U.S. Government work with other countries to develop SAICM which will promote the sound management of chemicals while facilitating the movement of chemicals and their products across borders without compromising human health or the environment. There are several inter-sessional working documents that will serve as a basis for the structural development of SAICM. This meeting will serve as an opportunity for stakeholders to share their views on these documents before they are finalized at the third and final session of the Preparatory Committee for the Development of SAICM (PrepComm 3) in September 2005.

Dates: Tuesday, May 17, 1-2:30 for industry and trade groups and 2:30-4:00 for non-governmental organizations (NGOs).

ADDRESSES: The meeting will be held at: 1201 Constitution Ave. NW., Room 4225, EPA East (4th Floor), Washington, DC 20460.

Requests to participate in the meeting may be submitted to the technical person listed under FOR FURTHER INFORMATION CONTACT.

FOR FURTHER INFORMATION CONTACT: For general information contact: Colby Litner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: John Shoaff, OPPT International Team Leader, Environmental Assistance Division (7408M), Office of Pollution Prevention and Toxics, Environmental Protection Agency, 1200 Pennsylvania Ave., NW., Washington, DC 20460-0001; telephone number: (202) 564-0531; e-mail address: shoaff.john@epa.gov.

SUPPLEMENTARY INFORMATION:

I. General Information

A. Does this Action Apply to Me?

This action is directed to the public in general, and may be of particular interest to industry, trade associations, and non-governmental organizations that deal with and are interested in international chemicals management. If you have any questions regarding the applicability of this action to a particular entity, consult the technical person listed under FOR FURTHER INFORMATION CONTACT.

B. How Can I Get Copies of this Document and Other Related Information?

1. Docket. EPA has established an official public docket for this action under docket ID number OPPT-2005-0029. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EDOCKET. You may use EDOCKET at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

An agenda will be available two weeks prior to the meeting. Inter-sessional working documents are available at http://www.chem.unep.ch/saicm/meeting/intsession/default.htm. For general and background information on SAICM, see http://www.chem.unep.ch/saicm/default.htm. The meeting is open to the public.

III. How Can I Request to Participate in this Meeting?

You may submit a request to participate in this meeting to the technical person listed under FOR FURTHER INFORMATION CONTACT. Do not submit any information in your request that is considered CBI.

List of Subjects

Environmental protection, chemical management, toxic chemicals, chemical health and safety

Dated: May 2, 2005.
Wendy C. Hamnett,
Acting Director, Office of Pollution Prevention and Toxics.

[FR Doc. 05-9043 Filed 5-3-05; 10:34 am]

BILLING CODE 6560-50-S